DEPARTMENT OF TRANSPORTATION

National Highway Traffic Safety Administration

[Docket Number NHTSA-2005-23389]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek extension of an existing OMB approval.

Comments must be received on or before February 21, 2006.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Samuel Daniel, Jr., NHTSA 400 Seventh Street, SW., Room 5313 G, NVS-122,Washington, DC 20590. Mr. Daniel's telephone number is (202) 366-4921. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Phase-in Production Reporting Requirements for Tire Pressure Monitoring Systems.

OMB Control Number: 2127-0631.

Type of Approval: Extension of existing collection of information.

Affected Public: Approximately 21 motor vehicle manufacturers.

Form Number: No standard forms will be used in this collection.

Abstract: The Transportation Recall Enhancement, Accountability, and Documentation (TREAD) Act mandates in Section 13, that the National Highway Traffic Safety Administration (NHTSA) complete “a rulemaking for a regulation to require a warning system in new motor vehicles to indicate to the operator when a tire is significantly under inflated.”

NHTSA issued a final rule on April 8, 2005, establishing Federal Motor Vehicle Safety Standard (FMVSS) No. 138, Tire Pressure Monitoring Systems, in response to Section 13 of the TREAD ACT. FMVSS No. 138 specifies that compliance be phased in over a 2-year period beginning on October 5, 2005 as follows: between October 5, 2005 and August 31, 2006, 20 percent of new vehicles produced must comply with FMVSS No. 138; 70 percent of vehicles produced between September 1, 2006 and August 31, 2007 must comply with the Standard; and all vehicles produced after August 31, 2007 must comply with FMVSS No. 138. The agency decided to include both carry-forward and carry-back credit features in FMVSS No. 138, which provide vehicle manufacturers the opportunity to count compliant vehicles manufactured in a given year toward the phase-in percentage requirements for one of the subsequent phase-in years (carry-forward), or to count compliant vehicles manufactured in a given year toward the phase-in percentage requirements for the previous phase-in year. This information collection request would provide the agency with vehicle manufacturers' production data to verify that the manufacturers have met the production requirements of the phase-in as detailed in Section S7 of the Standard.

Estimated Annual Burden: 42 hours.

Number of Respondents: 21 motor vehicle manufacturers.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: December 19, 2005.
Stephen R. Kratzke,
Associate Administrator for Rulemaking.

[FR Doc. E5-7717 Filed 12-21-05; 8:45 am]

BILLING CODE 4910-59-P